DEPARTMENT OF HEALTH AND HUMAN SERVICES

Centers for Disease Control and Prevention

[30Day-30-04]

Proposed Data Collections Submitted for Public Comment and Recommendations

The Centers for Disease Control and Prevention (CDC) publishes a list of information collection requests under review by the Office of Management and Budget (OMB) in compliance with the Paperwork Reduction Act (44 U.S.C. chapter 35). To request a copy of these requests, call the CDC Reports Clearance Officer at (404) 498-1210. Send written comments to CDC, Desk Officer, Human Resources and Housing Branch, New Executive Office Building, Room 10235, Washington, DC 20503 or by fax to (202) 395-6974. Written comments should be received within 30 days of this notice.

Proposed Project: National Nursing Home Survey, OMB No. 0920-0353—Reinstatement—National Center for Health Statistics (NCHS), Centers for Disease Control and Prevention (CDC).

Section 306 of the Public Health Service Act states that the National Center for Health Statistics “shall collect statistics on health resources * * * [and] utilization of health care, including utilization of * * * services of hospitals, extended care facilities, home health agencies, and other institutions.” The data system responsible for collecting this data is the National Health Care Survey (NHCS). The National Nursing Home Survey (NNHS) is part of the Long-term Care Component of the NHCS. The NNHS was conducted in 1973-74, 1977, 1985, 1995, 1997, and 1999. NNHS data describe a major segment of the long-term care system and are used extensively for health care research, health planning and public policy. NNHS provides data on the characteristics of nursing homes (e.g. Medicare and Medicaid certification, ownership, membership in chains/HMO/hospital systems), residents (e.g. demographics, functional status, services received, diagnoses, sources of payment), and staff (e.g. staffing mix, turnover, benefits, training, education).

The survey provides detailed information on utilization and staffing patterns, and quality of care variables that is needed in order to make accurate assessments of the need for and effects of changes in the provision and financing of long-term care for the elderly. The availability and use of long-term care services are becoming an increasingly important issue as the number of elderly increases and persons with disabilities live longer. Equally as important is ensuring the adequacy and availability of the long-term care workforce. Data from the NNHS have been used by Federal agencies, professional organizations, private industry, and the media.

NCHS plans to conduct the next NNHS in March-June 2004 with a repeat of the survey in 2006. This national survey follows a pretest of forms and procedures conducted in June-July 2003. The data collection forms and procedures have been extensively revised from the previous NNHS. The 2004 NNHS will be based on computer-assisted personal interview (CAPI) and computer-assisted telephone interview (CATI) methodologies. The annualized burden hours are estimated to be 13,375.

Respondents | Number of respondents | Number of responses per respondent | Average burden per responses (in hrs.)
Facility Questionnaire | 1,500 | 1 | 20/60
Nursing Home Staff Questionnaire | 1,500 | 1 | 50/60
Current Resident Sampling List | 1,500 | 1 | 20/60
Current Resident Questionnaire | 1,500 | 6 | 25/60
Discharged Resident Sampling List | 1,500 | 1 | 15/60
Discharged Resident Questionnaire | 1,500 | 6 | 25/60
Sampling List of Nursing Assistants | 750 | 1 | 20/60
Nursing Assistants Questionnaire | 750 | 6 | 40/60

Dated: February 18, 2004.
Alvin Hall,
Director, Management Analysis and Services Office, Centers for Disease Control and Prevention.

[FR Doc. 04-4235 Filed 2-25-04; 8:45 am]

BILLING CODE 4163-18-P